DEPARTMENT OF COMMERCE

Bureau of Economic Analysis

Agency Information Collection Activities; Submission to the Office of Management and Budget (OMB) for Review and Approval; Comment Request; Concrete Masonry Products Research, Education, and Promotion Voter Registration and Ballot Forms

The Department of Commerce will submit the following information collection request to the Office of Management and Budget (OMB) for review and clearance in accordance with the Paperwork Reduction Act of 1995, on or after the date of publication of this notice. We invite the general public and other Federal agencies to comment on proposed, and continuing information collections, which helps us assess the impact of our information collection requirements and minimize the public's reporting burden. Public comments were previously requested via the Federal Register on February 29, 2024 during a 60-day comment period. This notice allows for an additional 30 days for public comments.

Agency: Bureau of Economic Analysis, Department of Commerce.

Title: Concrete Masonry Products Research, Education, and Promotion Voter Registration and Ballot Forms.

OMB Control Number: 0605-0029.

Form Number(s): None.

Type of Request: Regular submission. This is an extension.

Affected Public: Business or other for-profit organizations.

Estimated Number of Respondents: 180.

Estimated Time per Response: .5 hour.

Estimated Total Annual Burden Hours: 90.

Respondent's Obligation: Voluntary.

Needs and Uses: Ascertain voter participation interest and vote.

Frequency: Three years or as needed thereafter.

Respondent's Obligation: Voluntary.

Legal Authority: Authorizing Statute: 15 U.S.C. Chapter 13 (sections 8701-8717).

This information collection request may be viewed at www.reginfo.gov. Follow the instructions to view the Department of Commerce collections currently under review by OMB.

Written comments and recommendations for the proposed information collection should be submitted within 30 days of the publication of this notice on the following website www.reginfo.gov/public/do/PRAMain. Find this particular information collection by selecting “Currently under 30-day Review—Open for Public Comments” or by using the search function and entering either the title of the collection or the OMB Control Number 0605-0029.

Sheleen Dumas,
Department PRA Clearance Officer, Office of the Under Secretary for Economic Affairs, Commerce Department.

[FR Doc. 2024-10710 Filed 5-15-24; 8:45 am]

BILLING CODE 3510-06-P